DEPARTMENT OF JUSTICE

Antitrust Division

Notice Pursuant to the National Cooperative Research and Production Act of 1993—Optical Internetworking Forum

Notice is hereby given that, on October 14, 2003, pursuant to Section 6(a) of the National Cooperative Research and Production Act of 1993, 15 U.S.C. 4301 et seq. (“the Act”), Optical Internetworking Forum has filed written notifications simultaneously with the Attorney General and the Federal Trade Commission disclosing changes in its membership status. The notifications were filed for the purpose of extending the Act's provisions limiting the recovery of antitrust plaintiffs to actual damages under specified circumstances. Specifically, Analogix Semiconductor, Santa Clara, CA; Circadiant Systems, Allentown, PA; Civcom, Petah-Tikva, ISRAEL; Diablo Technologies, Gatinea, Quebec, CANADA; Ibiden, Gifu, JAPAN; KeyEye Communication, Sacramento, CA; Lambda Optical Systems, Holmdel, NJ; Quellan, Atlanta, GA; Foxconn, Harrisburg, PA; China Academy of Telecommunication Research, Beijing, PEOPLE'S REPUBLIC OF CHINA; Georgia Institute of Technology, Atlanta, GA; and University of New Hampshire, Durham, NH have been added as parties to this venture.

Also, Interintelligence, Torrance, CA; Movaz Networks, McLean, VA; Network Elements, Beaverton, OR; Philips Semiconductors, Eindhoven, THE NETHERLANDS; Sierra Monolithics, Redono Beach, CA; Spirent, Honolulu, HI; STMicrolectronics, Nepeon, Ontario, CANADA; Teradian Networks, San Jose, CA; T-Networks, Allentown, PA; Transpectrum, Los Angeles, CA; Tsunami Photonics, Dun Laoghaire, IRELAND; Wavecrest, Eden Prairie, MN; Xelerated, Stockholm, SWEDEN; and Zarlink, San Diego, CA have been dropped as parties to this venture. Multilink Technology, Somerset, NJ has merged into Vitesse Semiconductor, Camarillo, CA.

No other changes have been made in either the membership or planned activity of the group research project. Membership in this group research project remains open, and Optical Internetworking Forum intends to file additional written notification disclosing all changes in membership.

On October 5, 1998, Optical Internetworking Forum filed its original notification pursuant to Section 6(a) of the Act. The Department of Justice published a notice in the Federal Register pursuant to Section 6(b) of the Act on January 29, 1999 (64 FR 4709).

The last notification was filed with the Department on July 23, 2003. A notice was published in the Federal Register pursuant to section 6(b) of the Act on August 29, 2003 (68 FR 52056).

Dorothy B. Fountain,
Deputy Director of Operations, Antitrust Division.

[FR Doc. 03-28285 Filed 11-10-03; 8:45 am]

BILLING CODE 4410-11-M